DEPARTMENT OF TRANSPORTATION

Federal Aviation Administration

14 CFR Part 71

[Docket No. FAA-2004-17163; Airspace Docket No. 04-AGL-10]

Modification of Class D Airspace; Rochester, MN; Modification of Class E Airspace; Rochester, MN

AGENCY: Federal Aviation Administration (FAA), DOT.

ACTION: Final rule.

SUMMARY: This action modifies Class D airspace at Rochester, MN, and modifies Class E airspace at Rochester, MN. Area Navigation (RNAV) Standard Instrument Approach Procedures (SIAPS) have been developed for Rochester International Airport. Controlled airspace extending upward from the surface of the earth is needed to contain aircraft executing these approaches. This action would increase the existing radius of Class D airspace, and increase the existing area of Class E airspace for Rochester International Airport.

DATES: Effective 0901 UTC, November 25, 2004.

FOR FURTHER INFORMATION CONTACT: J. Mark Reeves, Air Traffic Division, Airspace Branch, AGL-520, Federal Aviation Administration, 2300 East Devon Avenue, Des Plaines, IL 60018, telephone (847) 294-7568.

SUPPLEMENTARY INFORMATION:

History

On Wednesday, June 9, 2004, the FAA proposed to amend 14 CFR part 71 to modify Class D airspace and modify Class E airspace at Rochester, MN (69 FR 32288). The proposal was to modify Class D airspace, and modify Class E airspace extending upward from the surface of the earth to contain Instrument Flight Rules (IFR) operations in controlled airspace during portions of the terminal operation and while transiting between the enroute and terminal environments.

Interested parties were invited to participate in this rulemaking proceeding by submitting written comments on the proposal to the FAA. No comments objecting to the proposal were received. Class D airspace designations are published in paragraph 5000. Class E airspace areas extending upward from 700 feet above the surface of the earth in paragraph 6005, Class E airspace areas designated as surface areas in paragraph 6002, and Class E airspace areas designated as an extension to a Class D or Class E surface area in paragraph 6004, of FAA Order 7400.9L dated September 2, 2003, and effective September 16, 2003, which is incorporated by reference in 14 CFR 71.1. The Class D and Class E airspace designations listed in this document will be published subsequently in the Order.

The Rule

This amendment to 14 CFR part 71 modifies Class D airspace at Rochester, MN, and modifies Class E airspace at Rochester, MN, to accommodate aircraft executing instrument flight procedures into and out of Rochester International Airport. The area will be depicted on appropriate aeronautical charts.

The FAA has determined that this regulation only involves an established body of technical regulations for which frequent and routine amendments are necessary to keep them operationally current. Therefore, this regulation—(1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120; E.O. 10854, 24 FR 95665, 3 CFR, 1959-1963 Comp., p. 389.

§ 71.1 [Amended]

2. The incorporation by reference in 14 CFR 71.1 of the Federal Aviation Administration Order 7400.9L, Airspace Designations and Reporting Points, dated September 2, 2003, is amended as follows:

Paragraph 5000 Class D airspace.

* * * * *

AGL MN D Rochester, MN [Revised]

Rochester International Airport, NM

(Lat. 43°54′26″ N., long. 92°29′56″ W.)

Rochester VOR/DME

(Lat. 43°46′58″ N., long. 92°35′49″ W.)

That airspace extending upward from the surface to and including 3,800 feet MSL within a 4.3-mile radius of the Rochester International Airport. This Class D airspace area is effective during the specific dates and times established in advance by a Notice to Airmen. The effective date and time will thereafter be published continuously in the Airport/Facility Directory.

* * * * *

Paragraph 6005 Class E airspace areas extending upward from 700 feet or more above the surface of the earth.

* * * * *

AGL MN E5 Rochester, MN [Revised]

Rochester International Airport, MN

(Lat. 43°54′26″ N., long. 92°29′56″ W.)

Rochester VOR/DME

(Lat. 43°46′58″ N., long. 92°35′49″ W.)

St. Mary's Hospital Heliport, MN

(Lat. 44°01′11″ N., long. 92°28′59″ W.)

That airspace extending upward from 700 feet above the surface within a 6.8-mile radius of the Rochester International Airport, and within 3.2 miles each side of the Rochester VOR/DME 028° radial extending from the 6.8-mile radius to 7.9 miles southwest of the airport, within 5.3 miles southwest and 4 miles northeast of the Rochester northwest localizer course extending from the 6.8-mile radius to 20 miles northwest of the airport, within 5.3 miles northeast and 4 miles southwest of the Rochester southeast localizer course extending from the 6.8-mile radius to 17.3 miles southeast of the airport and within a 6.4-mile radius of the St. Mary's Hospital Heliport.

* * * * *

Paragraph 6002 Class E airspace designated as surface areas.

* * * * *

AGL MN E2 Rochester, MN [Revised]

Rochester International Airport, MN

(Lat. 43°54′26″ N., long. 92°29′56″ W.)

Rochester VOR/DME

(Lat. 43°46′58″ N., long. 92°35′49″ W.)

Within a 4.3-mile radius of the Rochester International Airport, and within 3.1 miles each side of the Rochester VOR/DME 028° radial, extending from the 4.3-mile radius to 7 miles southwest of the airport. This Class E airspace area is effective during the specific dates and times established by a Notice to Airmen. The effective date and time will thereafter be continuously published in the Airport/Facility Directory.

* * * * *

Paragraph 6004 Class E airspace areas designated as an extension to a Class D or Class E surface area.

* * * * *

ALG MN E4 Rochester, MN [Revised]

Rochester International Airport, MN

(Lat. 43°54′26″ N.,long. 92°29′56″ W.)

Rochester VOR/DME

(Lat. 43°46′58″ N.,long. 92°35′49″ W.)

That airspace extending upward from the surface within 3.1 miles each side of the Rochester VOR/DME 028° radial, extending from the 4.3-mile radius to 7 miles southwest of the airport. This Class E airspace area is effective during the specific dates and times established by a Notice to Airmen. The effective date and time will thereafter be continuously published in the Airport/Facility Directory.

* * * * *

Issued in Des Plaines, Illinois on August 5, 2004.
Nancy B. Kort,
Area Director, Central Terminal Operations.

[FR Doc. 04-19375 Filed 8-23-04; 8:45 am]

BILLING CODE 4910-13-M